DEPARTMENT OF STATE

[Public Notice 10159]

Guidance on Specified Persons Under Section 231 of the Countering Russian Influence in Europe and Eurasia Act of 2017

ACTION: Guidance to specify persons that are part of, or operate for or on behalf of, the defense and intelligence sectors of the Government of the Russian Federation; notice.

SUMMARY: The Department of State is issuing this guidance to specify the persons that are part of, or operate for or on behalf of, the defense and intelligence sectors of the Government of the Russian Federation. This guidance, including the list specifying persons, was developed through a robust interagency process and may be updated or amended as circumstances warrant.

Applicable Dates: The specification of persons identified in this notice pursuant to the Act is applicable on December 4, 2017.

FOR FURTHER INFORMATION CONTACT: Philip A. Foley, Director, Office of Counterproliferation Initiatives, Bureau of International Security and Nonproliferation, Department of State, Washington, DC 20520, tel.: 202-647-5193, FOLEYPH@STATE.GOV.

Background

Pursuant to the authority in Section 231(d) of the Countering Russian Influence in Europe and Eurasia Act of 2017 (Pub. L. 115-44), (“the Act”), the Secretary of State is issuing this guidance to specify the following as persons that are part of, or operate for or on behalf of, the defense and intelligence sectors of the Government of the Russian Federation:

Section 231(d) List regarding the Russian Defense Sector of the Government of the Russian Federation

Admiralty Shipyard JSC

Almaz-Antey Air and Space Defense Corporation JSC

Dolgoprudny Research Production JSC

Federal Research and Production Center Titan Barrikady JSC (Titan Design Bureau)

Izhevsk Mechanical Plant (Baikal)

Izhmash Concern JSC

Kalashnikov Concern JSC

Kalinin Machine Building Plant JSC (KMZ)

KBP Instrument Design Bureau

MIC NPO Mashinostroyenia

Molot Oruzhie

Mytishchinski Mashinostroitelny Zavod

Novator Experimental Design Bureau

NPO High Precision Systems JSC

NPO Splav JSC

Oboronprom OJSC

Radio-Electronic Technologies (KRET)

Radiotechnical and Information Systems (RTI) Concern

Research and Production Corporation Uralvagonzavod JSC

Rosoboronexport OJSC (ROE)

Rostec (Russian Technologies State Corporation)

Russian Aircraft Corporation MiG

Russian Helicopters JSC

Sozvezdie Concern JSC

State Research and Production Enterprise Bazalt JSC

Sukhoi Aviation JSC

Tactical Missiles Corporation JSC

Tikhomirov Scientific Research Institute JSC

Tupolev JSC

United Aircraft Corporation

United Engine Corporation

United Instrument Manufacturing Corporation

United Shipbuilding Corporation

Section 231(d) List regarding the Russian Intelligence Sector of the Government of the Russian Federation

Autonomous Noncommercial Professional Organization/Professional Association of Designers of Data Processing (ANO PO KSI)

Federal Security Service (FSB)

Foreign Intelligence Service (SVR)

Main Intelligence Directorate of the General Staff of the Russian Armed Forces (GRU)

Special Technology Center

Zorsecurity

Dated: October 26, 2017.
Rex W. Tillerson,
Secretary of State.

[FR Doc. 2017-26087 Filed 12-1-17; 8:45 am]

BILLING CODE 4710-27-P